SECURITIES AND EXCHANGE COMMISSION

[File No. 500-1]

Altiva Financial Corp., Atlantic Gulf Communities Corp., CFI Mortgage, Inc., Commodore Holdings Ltd., Conversion Technologies International, Inc., Cyntech Technologies, Inc., Diversified Senior Services, Inc., Dyersburg Corp., Flour City International, Inc., Gerald Stevens, Inc., Leisure Time Casinos & Resorts, Inc., and Platinum Entertainment, Inc. (n/k/a Vidalia Gichner Holdings, Inc.),; Order of Suspension of Trading

October 16, 2009.

It appears to the Securities and Exchange Commission that there is a lack of current and accurate information concerning the securities of Altiva Financial Corp. because it has not filed any periodic reports since the period ended February 29, 2000.

It appears to the Securities and Exchange Commission that there is a lack of current and accurate information concerning the securities of Atlantic Gulf Communities Corp. because it has not filed any periodic reports since the period ended September 30, 2000.

It appears to the Securities and Exchange Commission that there is a lack of current and accurate information concerning the securities of CFI Mortgage, Inc. because it has not filed any periodic reports since the period ended September 30, 2001.

It appears to the Securities and Exchange Commission that there is a lack of current and accurate information concerning the securities of Commodore Holdings Ltd. because it has not filed any periodic reports since the period ended June 30, 2000.

It appears to the Securities and Exchange Commission that there is a lack of current and accurate information concerning the securities of Conversion Technologies International, Inc. because it has not filed any periodic reports since the period ended June 30, 2000.

It appears to the Securities and Exchange Commission that there is a lack of current and accurate information concerning the securities of Cyntech Technologies, Inc. because it has not filed any periodic reports since the period ended July 31, 2002.

It appears to the Securities and Exchange Commission that there is a lack of current and accurate information concerning the securities of Diversified Senior Services, Inc. because it has not filed any periodic reports since the period ended September 30, 2001.

It appears to the Securities and Exchange Commission that there is a lack of current and accurate information concerning the securities of Dyersburg Corp. because it has not filed any periodic reports since the period ended March 31, 2001.

It appears to the Securities and Exchange Commission that there is a lack of current and accurate information concerning the securities of Flour City International, Inc. because it has not filed any periodic reports since the period ended July 31, 2001.

It appears to the Securities and Exchange Commission that there is a lack of current and accurate information concerning the securities of Gerald Stevens, Inc. because it has not filed any periodic reports since the period ended November 30, 2000.

It appears to the Securities and Exchange Commission that there is a lack of current and accurate information concerning the securities of Leisure Time Casinos & Resorts, Inc. because it has not filed any periodic reports since the period ended June 30, 2000.

It appears to the Securities and Exchange Commission that there is a lack of current and accurate information concerning the securities of Platinum Entertainment, Inc. (n/k/a Vidalia Gichner Holdings, Inc.) because it has not filed any periodic reports since the period ended March 31, 2000.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on October 16, 2009, through 11:59 p.m. EDT on October 29, 2009.

By the Commission.
Elizabeth M. Murphy,
Secretary.

[FR Doc. E9-25286 Filed 10-16-09; 11:15 am]

BILLING CODE 8011-01-P